DEPARTMENT OF HEALTH AND HUMAN SERVICES

Centers for Disease Control and Prevention

Disease, Disability, and Injury Prevention and Control Special Emphasis Panel (SEP): Community Coalition Development Projects for African American Communities, Program Announcement 01033

In accordance with section 10(a)(2) of the Federal Advisory Committee Act (Pub. L. 92-463), the Centers for Disease Control and Prevention (CDC) announces the following meeting.

NAME: Disease, Disability, and Injury Prevention and Control Special Emphasis Panel (SEP): Community Coalition Development Projects for African American Communities, PA#01033, meeting.

TIMES AND DATE: 9 a.m.-1 p.m., July 23, 2001 (Open); 1 p.m.-2 p.m., July 23, 2001 (Closed); 8:30 a.m.-4:30 p.m., July 24, 2001 (Closed); 8:30 a.m.-8:45 a.m., July 25, 2001 (Open); 8:45 a.m.-4:30 p.m., July 25, 2001 (Closed)

PLACE: The Westin Atlanta North at Perimeter, 7 Concourse Parkway, Atlanta, GA 30328.

STATUS: Portions of the meeting will be closed to the public in accordance with provisions set forth in section 552b(c)(4) and (6), Title 5 U.S.C., and the Determination of the Deputy Director for Program Management, CDC, pursuant to Public Law 92-463.

MATTERS TO BE DISCUSSED: The meeting will include the review, discussion, and evaluation of applications received in response to Program Announcement 01033.

CONTACT PERSON FOR MORE INFORMATION: Elizabeth A. Wolfe, Prevention Support Office, National Center for HIV, STD, and TB Prevention, CDC, Corporate Square Office Park, 8 Corporate Square Boulevard, M/S E07, Atlanta, Georgia 30329, telephone 404/639-8025.

The Director, Management Analysis and Services office has been delegated the authority to sign Federal Register notices pertaining to announcements of meetings and other committee management activities, for both the Centers for Disease Control and Prevention and the Agency for Toxic Substances and Disease Registry.

Dated: July 2, 2001.
Carolyn J. Russell,
Director, Management Analysis and Services Office, Centers for Disease Control and Prevention CDC.

[FR Doc. 01-17042 Filed 7-6-01; 8:45 am]

BILLING CODE 4163-18-P